COMMITTEE FOR THE IMPLEMENTATION OF TEXTILE AGREEMENTS

Adjustment of Import Limits for Certain Cotton, Wool, Man-Made Fiber, Silk Blend and Other Vegetable Fiber Textiles and Textile Products Produced or Manufactured in the People's Republic of China

December 4, 2001.

AGENCY: Committee for the Implementation of Textile Agreements (CITA).

ACTION: Issuing a directive to the Commissioner of Customs adjusting limits.

EFFECTIVE DATE: December 10, 2001.

FOR FURTHER INFORMATION CONTACT: Roy Unger, International Trade Specialist, Office of Textiles and Apparel, U.S. Department of Commerce, (202) 482-4212. For information on the quota status of these limits, refer to the Quota Status Reports posted on the bulletin boards of each Customs port, call (202) 927-5850, or refer to the U.S. Customs website at http://www.customs.ustreas.gov. For information on embargoes and quota re-openings, call (202) 482-3715.

SUPPLEMENTARY INFORMATION:

Authority: Section 204 of the Agricultural Act of 1956, as amended (7 U.S.C. 1854); Executive Order 11651 of March 3, 1972, as amended.

The current limits for certain categories are being increased for carryforward.

A description of the textile and apparel categories in terms of HTS numbers is available in the CORRELATION: Textile and Apparel Categories with the Harmonized Tariff Schedule of the United States (see Federal Register notice 65 FR 82328, published on December 28, 2000). Also see 65 FR 81846, published on December 27, 2000.

D. Michael Hutchinson,
Acting Chairman, Committee for the Implementation of Textile Agreements.

Committee for the Implementation of Textile Agreements

December 4, 2001.

Commissioner of Customs,

Department of the Treasury, Washington, DC 20229.

Dear Commissioner: This directive amends, but does not cancel, the directive issued to you on December 20, 2000, by the Chairman, Committee for the Implementation of Textile Agreements. That directive concerns imports of certain cotton, wool, man-made fiber, silk blend and other vegetable fiber textiles and textile products, produced or manufactured in China and exported during the twelve-month period which began on January 1, 2001 and extends through December 31, 2001.

Effective on December 10, 2001, you are directed to increase the limits for the following categories, as provided for under the terms of the current bilateral textile agreement between the Governments of the United States and the People's Republic of China:

Category | Adjusted twelve-month limit ¹
Sublevels in Group I |
200 | 845,614 kilograms.
218 | 12,656,591 square meters.
237 | 2,315,711 dozen.
313 | 47,207,417 square meters.
314 | 56,352,424 square meters.
315 | 141,936,331 square meters.
317/326 | 24,719,048 square meters of which not more than 4,685,451 square meters shall be in Category 326.
331 | 5,826,384 dozen pairs.
334 | 362,498 dozen.
335 | 423,568 dozen.
336 | 197,343 dozen.
338/339 | 2,545,931 dozen of which not more than 1,932,640 dozen shall be in Categories 338-S/339-S ².
340 | 869,692 dozen of which not more than 434,845 dozen shall be in Category 340-Z ³.
341 | 753,581 dozen of which not more than 439,590 dozen shall be in Category 341-Y ⁴
342 | 296,652 dozen.
345 | 139,912 dozen.
347/348 | 2,544,403 dozen.
351 | 646,055 dozen.
352 | 1,794,941 dozen.
359-V ⁴ | 1,001,152 kilograms.
360 | 8,984,782 numbers of which not more than 6,128,490 numbers shall be in Category 360-P ⁵
361 | 4,903,526 numbers.
362 | 8,144,309 numbers.
363 | 24,053,920 numbers.
433 | 22,745 dozen.
434 | 14,543 dozen.
435 | 26,712 dozen.
438 | 28,797 dozen.
442 | 43,550 dozen.
443 | 140,697 numbers.
445/446 | 311,712 dozen.
447 | 77,031 dozen.
631 | 1,490,680 dozen pairs.
633 | 65,064 dozen.
634 | 707,861 dozen.
635 | 746,670 dozen.
636 | 608,711 dozen.
638/639 | 2,684,688 dozen.
640 | 1,512,506 dozen.
641 | 1,432,787 dozen.
642 | 385,198 dozen.
643 | 575,784 numbers.
644/844 | 4,061,951 numbers.
645/646 | 894,653 dozen.
647 | 1,730,578 dozen.
648 | 1,236,487 dozen.
651 | 878,123 dozen of which not more than 150,305 dozen shall be in Category 651-B ⁶.
652 | 3,209,352 dozen.
659-C ⁷ | 464,888 kilograms.
659-H ⁸ | 3,239,176 kilograms.
666 | 4,026,236 kilograms.
845 | 2,543,417 dozen.
Group II |
330, 332, 349, 353, 354, 359-O ⁹, 431, 432, 439, 459, 630, 632, 653, 654 and 659-O ¹⁰, as a group | 136,222,783 square meters equivalent.
Group III |
201, 220, 222, 223, 224-V ¹¹, 224-O ¹², 225, 227, 229, 369-O ¹³, 400, 414, 464, 465, 469, 600, 603, 604-O ¹⁴, 606, 618-622, 624-629, 665, 669-O ¹⁵ and 670-O ¹⁶, as a group | 282,573,291 square meters equivalent.
Group IV |
832, 834, 838, 839, 843, 850-852, 858 and 859, as a group | 13,396,518 square meters equivalent.
¹ The limits have not been adjusted to account for any imports exported after December 31, 2000.
² Category 338-S: all HTS numbers except 6109.10.0012, 6109.10.0014, 6109.10.0018 and 6109.10.0023; Category 339-S: all HTS numbers except 6109.10.0040, 6109.10.0045, 6109.10.0060 and 6109.10.0065.
³ Category 340-Z: only HTS numbers 6205.20.2015, 6205.20.2020, 6205.20.2050 and 6205.20.2060.
⁴ Category 341-Y: only HTS numbers 6204.22.3060, 6206.30.3010, 6206.30.3030 and 6211.42.0054.
⁵ Category 360-P: only HTS numbers 6302.21.3010, 6302.21.5010, 6302.21.7010, 6302.21.9010, 6302.31.3010, 6302.31.5010, 6302.31.7010 and 6302.31.9010.
⁶ Category 651-B: only HTS numbers 6107.22.0015 and 6108.32.0015.
⁷ Category 659-C: only HTS numbers 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010.
⁸ Category 659-H: only HTS numbers 6502.00.9030, 6504.00.9015, 6504.00.9060, 6505.90.5090, 6505.90.6090, 6505.90.7090 and 6505.90.8090.
⁹ Category 359-O: all HTS numbers except 6103.42.2025, 6103.49.8034, 6104.62.1020, 6104.69.8010, 6114.20.0048, 6114.20.0052, 6203.42.2010, 6203.42.2090, 6204.62.2010, 6211.32.0010, 6211.32.0025, 6211.42.0010 (Category 359-C); 6103.19.2030, 6103.19.9030, 6104.12.0040, 6104.19.8040, 6110.20.1022, 6110.20.1024, 6110.20.2030, 6110.20.2035, 6110.90.9044, 6110.90.9046, 6201.92.2010, 6202.92.2020, 6203.19.1030, 6203.19.9030, 6204.12.0040, 6204.19.8040, 6211.32.0070 and 6211.42.0070 (Category 359-V).
¹⁰ Category 659-O: all HTS numbers except 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017, 6211.43.0010 (Category 659-C); 6502.00.9030, 6504.00.9015, 6504.00.9060, 6505.90.5090, 6505.90.6090, 6505.90.7090, 6505.90.8090 (Category 659-H); 6112.31.0010, 6112.31.0020, 6112.41.0010, 6112.41.0020, 6112.41.0030, 6112.41.0040, 6211.11.1010, 6211.11.1020, 6211.12.1010 and 6211.12.1020 (Category 659-S).
¹¹ Category 224-V: only HTS numbers 5801.21.0000, 5801.23.0000, 5801.24.0000, 5801.25.0010, 5801.25.0020, 5801.26.0010, 5801.26.0020, 5801.31.0000, 5801.33.0000, 5801.34.0000, 5801.35.0010, 5801.35.0020, 5801.36.0010 and 5801.36.0020.
¹² Category 224-O: all HTS numbers except 5801.21.0000, 5801.23.0000, 5801.24.0000, 5801.25.0010, 5801.25.0020, 5801.26.0010, 5801.26.0020, 5801.31.0000, 5801.33.0000, 5801.34.0000, 5801.35.0010, 5801.35.0020, 5801.36.0010 and 5801.36.0020 (Category 224-V).
¹³ Category 369-O: all HTS numbers except 6302.60.0010, 6302.91.0005 and 6302.91.0045 (Category 369-D); 4202.22.4020, 4202.22.4500, 4202.22.8030 (Category 369-H); 4202.12.4000, 4202.12.8020, 4202.12.8060, 4202.92.1500, 4202.92.3016, 4202.92.6091 and 6307.90.9905 (Category 369-L); and 6307.10.2005 (Category 369S)
¹⁴ Category 604-O: all HTS numbers except 5509.32.0000 (Category 604-A).
¹⁵ Category 669-O: all HTS numbers except 6305.32.0010, 6305.32.0020, 6305.33.0010, 6305.33.0020 and 6305.39.0000 (Category 669-P).
¹⁶ Category 670-O: only HTS numbers 4202.22.4030, 4202.22.8050 and 4202.32.9550.

The Committee for the Implementation of Textile Agreements has determined that these actions fall within the foreign affairs exception to the rulemaking provisions of 5 U.S.C. 553(a)(1).

D. Michael Hutchinson,

Acting Chairman, Committee for the Implementation of Textile Agreements.

[FR Doc.01-30373 Filed 12-6-01; 8:45 am]

BILLING CODE 3510-DR-S